DEPARTMENT OF THE INTERIOR

Bureau of Land Management

[CO-820-02-5440-DT -C028]

Notice of Availability of the Proposed San Juan/San Miguel Resource Management Plan Amendment and Final Environmental Impact Statement for a Proposed Ski Area Near Silverton, CO

AGENCY: Bureau of Land Management, Interior.

ACTION: Notice of availability of the proposed San Juan/San Miguel Resource Management Plan Amendment and final environmental impact statement (PRMP Amendment /FEIS) for a proposed ski area near Silverton, Colorado.

SUMMARY: Pursuant to section 202 of the Federal Land Policy and Management Act of 1976 (FLPMA) and section 102(2)(C) of the National Environmental Policy Act of 1969 (NEPA), the Bureau of Land Management (BLM) has prepared a PRMP Amendment and FEIS for the proposed ski area. The proposed area lies in San Juan County, Colorado. The PRMP Amendment/FEIS provides direction and guidance for the management of public lands and resources of the ski area, as well as monitoring and evaluation requirements. The PRMP Amendment/FEIS would also amend the San Juan/San Miguel RMP (1985) for the affected lands in the planning area. Once approved in a Record of Decision (ROD), the Amended RMP would supercede all existing management plans for the public lands within the ski area.

DATES: BLM Planning Regulations (43 CFR 1610.5-2) state that any person who participated in the planning process, and has an interest that may be adversely affected, may protest. The protest must be filed within 30 days of the date that the Environmental Protection Agency publishes this notice in the Federal Register. Instructions for filing of protests are described in Chapter One of the PRMP Amendment/FEIS and are also included in the Supplementary Information section of this notice.

FOR FURTHER INFORMATION CONTACT: To have your name added to our mailing list, contact Richard Speegle, Project Manager, at 970-375-3310, (or e-mail at richard_speegle@blm.gov) Columbine Field Office, San Juan Public Lands Center, 15 Burnett Ct., Durango, CO 81301.

Persons who are not able to inspect the PRMP Amendment/FEIS either on-line or at the information repository locations may request one of a limited number of printed or CD copies. Requests for copies of the PRMP Amendment/FEIS should be directed to Mr. Speegle, and should clearly state that the request is for a printed copy or CD of the Silverton Outdoor Learning and Recreation Center PRMP Amendment/FEIS, and include the name, mailing address and phone number of the requesting party.

Copies of the PRMP Amendment/FEIS have been sent to affected Federal, State, and Local Government agencies and to interested parties. The planning documents and direct supporting record for the analysis for the PRMP Amendment/FEIS will be available for inspection at the following offices:

—The Bureau of Land Management, Columbine Field Office, 110 W. 11th, Durango, Colorado 81301

—The Bureau of Land Management, San Juan Public Lands Center, 15 Burnett Ct., Durango Colorado (documents can be reviewed at the BLM office during normal working hours).

—Silverton Public Library, 1111 Reese Street, Silverton, Colorado

—The Durango Public Library, 1188 2nd Ave, Durango, Colorado

—The public may obtain a copy of the PRMP Amendment/FEIS from the following locations:

—The Bureau of Land Management Columbine Field Office & the San Juan Public Lands Center

—On the Internet at www.co.blm.gov/sjra.

SUPPLEMENTARY INFORMATION: Cirrus Ecological Solutions, L.C, an environmental consulting firm in Logan, Utah, is assisting the BLM in the preparation of these documents and in the planning process for the ski area. The EIS is being prepared to provide the public and Bureau decision makers with comprehensive environmental impact information related to the following Proposed Action: authorization of Silverton Outdoor Learning and Recreation Center's request for long-term use of 1,300 acres of BLM-administered land for backcountry-type skiing, summer recreation, and educational activities. The Proposed Action would require an Amendment of the San Juan/San Miguel RMP to provide for a change in the scope of authorized resource uses. The planning area addressed in the PRMP Amendment/FEIS contains 1,300 acres of BLM-administered lands, and 400 acres of private lands owned by the proponent. The PRMP Amendment/FEIS only applies to BLM-administered lands. Other private lands are included within the planning area boundary because these lands are interspersed with the BLM administered-lands.

The Draft RMP(DRMP) Amendment/ Draft EIS(DEIS) published in June 2003, addressed four alternatives: the Proposed Action (Unguided Skiing Only), (A) No Action, or continuation of current practices, (B) Guided Skiing Only, and (C) the Preferred Alternative, an Integrated Guided and Unguided Operation. The PRMP Amendment/FEIS still includes Alternative C as the Agency Preferred Alternative. However, the PRMP Amendment/FEIS reflects the public and internal comments received on DRMP Amendment/DEIS.

The significant issues addressed in the analysis included the following: 1. Public safety (including avalanche mitigation); 2. Canada lynx impacts; 3. Impacts on the local winter economy; 4. Impacts to neighboring private lands; and 5. Public access to the area. Of these, public safety drove the development of alternatives. The Agency Preferred Alternative (C) Integrated Guided and Unguided Operation, would blend the unguided skiing under the Proposed Action with the Guided Only Operation of Alternative (B), incorporating the skier safety approaches appropriate to both. The Preferred Alternative (C) would include all elements of both the Proposed Action and the Guided Only Operation of Alternative (B), with the following exceptions:

1. Skier access to the permit area terrain would be staged according to skier safety hazards. Areas where risks were adequately reduced, due to avalanche control efforts and/or naturally evolving snow conditions, would be open to unguided skiing. Areas where hazards existed but could be avoided would be open to guide skiing only, and areas where the hazard was too high to reliably avoid, would be closed.

2. Limited tree thinning, limbing and clean-up on forested, north-facing slopes within the permit area. The objective would be to increase skier rescue and safe tree-skiing opportunities, primarily for unguided skiers, during periods of high avalanche hazard above timberline.

3. A 1.7 mile trail, less steep than the existing lift trail on private land, would be developed for emergency snowmobile access to the top lift terminal. It would also be available for hiker and mountain biker access in the summer months.

This alternative would incorporate both approaches to skier safety, from resort-style risk reduction as envisioned under the Proposed Action to the risk-avoidance approach typical of guided operations (Alternative B). Determination of which areas were open for unguided skiing and for guided skiing—and which areas were closed to skiing of any type—would be made on the basis of snow-stability criteria detailed in the skier-safety operation plan.

The planning process includes an opportunity for public, administrative review of proposed land use plan decisions during a 30-day protest period of the PRMP Amendment/FEIS. Any person who participated in the planning process for the PRMP Amendment/FEIS, and has an interest which is or may be adversely affected, may protest approval of this PRMP Amendment/FEIS and land use plan decisions contained within it (See 43 CFR 1610.5-2) during this 30-day period. Only those persons or organizations who participated in the planning process leading to this PRMP Amendment/FEIS may protest. A protesting party may raise only those issues submitted for the record during the planning process leading up to the publication of this PRMP Amendment/FEIS. These issues may have been raised by the protesting party or others. New issues may not be brought into the record at the protest stage. The 30-day period for filing a plan protest begins when the Environmental Protection Agency publishes in the Federal Register its Notice of Availability of the Final Environmental Impact Statement containing the PRMP Amendment/FEIS. There is no provision for any extension of time. To be considered “timely”, your protest, along with all attachments, must be postmarked no later than the last day of the protest period. A letter of protest must be filed in accordance with the planning regulations, 43 CFR 1610.5-2(a)(1). Protests must be in writing. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov. If sent by regular mail, send to: Director (210), Attention: Brenda Williams, P.O. Box 66538, Washington, DC 20035. For overnight (i.e., Federal Express) mailing, send protests to: Director (210) Attention: Brenda Williams, 1620 L Street, NW., Suite 1075, Washington, DC 20036. In order to be considered complete, your protest must contain at a minimum, the following information:

1. The name, mailing address, telephone number, and interest of the person filing the protest.

2. A statement of the issue or issues being protested.

3. A statement of the part or parts of the PRMP Amendment/FEIS being protested. To the extent possible, this should be done by reference to specific pages, paragraphs, sections, tables, maps, etc. included in the document.

4. A copy of all documents addressing the issue or issues that you submitted during the planning process, or a reference to the date and issue or issues that were discussed by you for the record.

5. A concise statement explaining why the Colorado BLM State Director's proposed decision is believed to be incorrect. This is the critical part of your protest. Take care to document relevant facts.

As much as possible, reference or cite the planning documents, environmental analysis documents, or available planning records (i.e., meeting minutes or summaries, correspondence, etc.). A protest that merely expresses disagreement with the Colorado BLM State Director's proposed decision, without any data, will not provide us with the benefit of your information and insight. In this case, the Director's review will be based on the existing analysis and supporting data. At the end of the 30-day protest period and after the Governor's consistency review, the PRMP Amendment/FEIS, excluding any portions under protest, will become final. Approval will be withheld on any portion of the PRMP Amendment/FEIS under protest until final action has been completed on such protest.

Freedom of Information Act Considerations/Confidentiality: Public comments submitted for this planning review, including names and street addresses of respondents, will be available for public review at the Columbine Field Office, in Durango, Colorado, during regular business hours (7:45 a.m. to 4:30 p.m.), Monday through Friday, except holidays. Comments, including names and addresses of respondents, will be retained on file in the same office as part of the public record for this planning effort. Individual respondents may request confidentiality. If you wish to withhold your name or address from public inspection or from disclosure under the Freedom of Information Act, you must state this prominently at the beginning of your written comment. Such requests will be honored to the extent allowed by law. BLM will not accept anonymous comments. All submissions from organizations or businesses, and from individuals identifying themselves as representatives or officials of organizations or businesses, will be made available for public inspection in their entirety.

Dated: March 9, 2004.
Mark W. Stiles,
Center Manager, San Juan Public Lands Center.
Editorial Note: This document was received in the Office of the Federal Register on July 30, 2004.

[FR Doc. 04-17851 Filed 8-5-04; 8:45 am]

BILLING CODE 4310-JB-P